DEPARTMENT OF DEFENSE

Department of the Army; Corps of Engineers

Notice of Availability of the Draft Supplement II to the Final EIS for the Proposed New Water Supply Reservoir Located in Williamson and Johnson Counties, for the City of Marion, IL

AGENCY: U.S. Army Corps of Engineers, Louisville District, DoD.

ACTION: Notice of availability.

SUMMARY: The City of Marion Illinois, has previously applied to the U.S. Army Corps of Engineers (Corps), Louisville District for a Department of the Army permit pursuant to Section 404 of the Clean Water Act for placement of material in Sugar Creek, Williamson County, as part of the construction of a new municipal water supply reservoir.

DATES: Written comments received by January 14, 2001, will be considered by the Corps in decision making for the Final Supplement II to the Final EIS.

FOR FURTHER INFORMATION CONTACT: Questions regarding the Draft Supplement II to the Final EIS may be directed to Mr. Ronny J. Sadri, Project Manager, Regulatory Branch, U.S. Army Corps of Engineers, Louisville District, P.O. Box 59, Louisville, KY 40201-0059, ATTN: CELRL-OP-FN, (502) 315-6681.

SUPPLEMENTARY INFORMATION: The proposed action by the City of Marion is a new 1,172-acre water supply reservoir located in Williamson and Johnson Counties, Illinois, near the community of Creal Springs. The Lake of Egypt Water District has an agreement in principle with the City of Marion to purchase water if a new lake on Sugar Creek is built. Two pipelines would be constructed for transport of water for treatment.

As part of the Corps review process, this Draft Supplement II to the Final Environmental Impact Statement (EIS) has been prepared. The Louisville District prepared a Draft EIS and released it to the public for comment in October 1994. A public hearing was held in December 1994. A Final EIS was prepared and released to the public for comment in July 1995. A Draft Supplement I was prepared and released to the public for comment in May 1996.

This Draft Supplement II to the Final EIS examines single source options as well as combinations of separate alternatives to satisfy current and future water needs of Marion and the Lake of Egypt Water District as separate entities. This Draft Supplement II incorporates the Draft and Final EIS and the Draft and Final Supplement I by reference.

Gary J. Gumm,
LTC, Corps of Engineers, Deputy Commander.

[FR Doc. 00-29084 Filed 11-13-00; 8:45 am]

BILLING CODE 3710-JB-M